ADVISORY COUNCIL ON HISTORIC PRESERVATION

Notice of ACHP Quarterly Business Meeting

AGENCY: Advisory Council on Historic Preservation.

ACTION: Notice.

SUMMARY: Notice is hereby given that the Advisory Council on Historic Preservation (ACHP) will meet Thursday, August 9, 2012. The meeting will be held in the Trustee Room at The Ballantine House at the Newark Museum at 49 Washington Street, Newark, NJ at 8:30 a.m. The ACHP was established by the National Historic Preservation Act of 1966 (16 U.S.C. 470 et seq.) to advise the President and Congress on national historic preservation policy and to comment upon federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-federal members appointed by the President.

Call to Order-8:30 a.m.

I. Chairman's Welcome

II. Chairman's Award

III. Preserve America Recognition

IV. Chairman's Report

V. ACHP Management Issues

A. Federal Budget Austerity and the ACHP

B. Alumni Foundation Report

C. Implementation of Preservation Action Task Force Recommendations To Improve the Federal Program Structure

IV. Forum Discussion Follow-up—Building a More Inclusive Preservation Program

V. Historic Preservation Policy and Programs

A. Legislative Agenda

B. Rightsizing Task Force Report

C. Sustainability Task Force Report

D. United Nations Declaration on the Rights of Indigenous Peoples

E. Fiftieth Anniversary of the National Historic Preservation Act

VI. Section 106 Issues

A. Guidance on Coordinating and Substituting NEPA and Section 106 Compliance

B. Traditional Cultural Landscapes Action Plan Implementation

C. FHWA Program Comment on Bridges

D. Executive Order on Infrastructure Projects

VII. New Business

VIII. Adjourn

Note: The meetings of the ACHP are open to the public. If you need special accommodations due to a disability, please contact the Advisory Council on Historic Preservation, 1100 Pennsylvania Avenue NW., Room 803, Washington, DC, 202-606-8503, at least seven (7) days prior to the meeting. Additional information concerning the meeting is available from the Executive Director, Advisory Council on Historic Preservation, 1100 Pennsylvania Avenue NW., #803, Washington, DC 20004.

Dated: July 18, 2012.
John M. Fowler,
Executive Director.

[FR Doc. 2012-17941 Filed 7-23-12; 8:45 am]

BILLING CODE 4310-K6-M